DEPARTMENT OF AGRICULTURE

National Agricultural Library; Notice of Intent To Seek Approval To Collect Information

AGENCY: USDA, Agricultural Research Service, National Agricultural Library.

SUMMARY: In accordance with the Paperwork Reduction Act of 1995 (Pub. L. 104-13) and Office of Management and Budget (OMB) regulations at 5 CFR part 1320 (60 FR 44978, August 29, 1995), this notice announces the National Agricultural Library's intent to request approval for a new electronic mailing list subscription form from those working with water quality and water resources.

DATES: Comments on this notice must be received by March 23, 2006 to be assured of consideration.

ADDRESSES: Address all comments concerning this notice to Joseph Makuch, Coordinator, Water Quality Information Center, National Agricultural Library, 10301 Baltimore Avenue, Beltsville, MD 20705-2351. Comments may be sent by facsimile to (301) 504-6409. Submit electronic comments to: wqic@nal.usda.gov.

FOR FURTHER INFORMATION CONTACT: Joseph Makuch (301) 504-6077.

SUPPLEMENTARY INFORMATION: Title: Electronic Mailing List Subscription Form.

OMB Number: Not yet assigned.

Expiration Date: Not yet assigned.

Type of Request: Approval for data collection from individuals working in the areas of water quality and water resources.

Abstract: The form would include the following items:

This form contains five items and is used to collect information about participants who are interested in joining an electronic discussion group. The form collects data to see if a person is eligible to join the discussion group. Because these electronic discussion groups are only available to people who work in the areas of water quality and water resources, it is necessary to gather this information. The questionnaire asks for the person's name, e-mail address, job title, work affiliation, and topics of interest.

Estimate of Burden: Public reporting burden for this collection of information is estimated to average 1 minute per response.

Respondents: Individuals who are interested in joining an electronic discussion group.

Estimated Number of Respondents: 750 per year.

Estimated Total Annual Burden on Respondents: 750 minutes or 12.5 hours.

Comments are invited on (1) Whether the proposed collection of information is necessary for the proper performance of the functions of the agency, including whether the information will have practical utility; (b) the accuracy of the agency's estimate of the burden of the proposed collection of information, including the validity of the methodology and the assumptions used; (c) ways to enhance the quality, utility, and clarity of the information to be collected; and (d) ways to minimize the burden of the collection of information on those who respond, including the use of appropriate automated, electronic, mechanical, or other technology. Comments should be sent to the address in the preamble. All responses to the notice will be summarized and included in the request for Office of Management and Budget (OMB) approval. All comments will become a matter of public record.

Dated: December 14, 2005.
Antoinette A. Betschart,
Associate Administrator, ARS.

[FR Doc. E6-367 Filed 1-13-06; 8:45 am]

BILLING CODE 3410-03-P